DEPARTMENT OF HOMELAND SECURITY

Coast Guard

33 CFR Part 117

[Docket No. USCG-2008-0429]

Drawbridge Operation Regulation: New River (South Fork), Fort Lauderdale, FL

AGENCY: Coast Guard, DHS.

ACTION: Notice of temporary deviation from regulations.

SUMMARY: The Commander, Seventh Coast Guard District, has issued a temporary deviation from the regulation governing the operation of the Davie Boulevard (SW Twelfth Street) Bridge, New River (South Fork), mile 0.9, at Fort Lauderdale, FL. The deviation is necessary to provide for the safety of workers in conducting maintenance on the bridge. This deviation allows the bridge to remain closed during limited hours of the day.

DATES: This deviation is effective from 7 a.m. on June 1, 2008 through 6 p.m. June 30, 2008.

ADDRESSES: Documents indicated in the preamble as being available in the docket are part of docket USCG-2008-0429 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander, Seventh Coast Guard District, 909 S.E. 1st Avenue, Room 432, Miami, FL 33131-3028, between 7 a.m. and 4 p.m., Monday through Friday, except Federal holidays.

FOR FURTHER INFORMATION CONTACT: Mr. Michael Lieberum, Bridge Branch, Seventh Coast Guard District, at 305-415-6744.

SUPPLEMENTARY INFORMATION: The consultant Reynolds, Smith & Hills CS, Inc. representing Florida Department of Transportation, the bridge owner, has requested a temporary deviation from the regulations governing the operations of the Davie Boulevard (SW Twelfth Street) Bridge, New River (South Fork), mile 0.9, at Fort Lauderdale, FL, to conduct minor repairs and painting. This bridge has a vertical clearance of 21 feet in the closed position at mean high water. The operating schedule for this bridge is published in 33 CFR 117.351(a) and requires the bridge to open on signal, except that from 7:30 a.m. to 9 a.m. and 4:30 p.m. to 6 p.m., Monday through Friday, except Federal holidays the bridge is allowed to remain closed to navigation. This deviation will allow the bridge to be closed to navigation from 7 a.m. to 1 p.m. and from 4:30 p.m. to 6 p.m., Monday through Friday; effective on June 1, 2008 and running through June 30, 2008. This deviation will allow a horizontal clearance reduction to 25 feet between the maintenance barge that will be used as a working platform and the bridge fender system from 7 a.m. to 1 p.m., Monday through Friday. The U.S. Coast Guard, Florida Department of Transportation and the Marine Industries Association of South Florida have determined that these dates and times should have the least impact on navigation. Vessels requiring less than 21 feet of vertical clearance and less than 25 feet of horizontal clearance shall be passed at any time. There is no alternate route for vessels in this location. The contractor has assured the Coast Guard that they can open the bridge within 15 minutes in the event of an emergency.

In accordance with 33 CFR 117.35(e), the drawbridge must return to its regular operating schedule immediately at the end of the designated time period. This deviation from the operating regulations is authorized under 33 CFR 117.35.

Dated: May 29, 2008.
Robert S. Branham,
Rear Admiral, U.S. Coast Guard, Commander, Seventh Coast Guard District.

[FR Doc. E8-12800 Filed 6-5-08; 8:45 am]

BILLING CODE 4910-15-P